FEDERAL COMMUNICATIONS COMMISSION

Information Collections Being Reviewed by the Federal Communications Commission; Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before December 24, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-1188.

Title: Connect America Challenge Process and Certifications.

Form Number: FCC Form 505.

Type of Review: Revision of a currently approved collection.

Respondents: Business or other for-profit, not-for-profit institutions and state, local or tribal government.

Number of Respondents and Responses: 178 respondents; 178 responses.

Estimated Time per Response: 3 hours to 20 hours.

Frequency of Response: On occasion and annual reporting requirements and third party disclosure requirements.

Obligation to Respond: Required to obtain or retain benefits. Statutory authority for this information collection is contained in 47 U.S.C. sections 151, 154(i), 154(j), 201(b), 214, 218-220, 254, and 1302 of the Communications Act of 1934, as amended.

Total Annual Burden: 1,793 hours.

Total Annual Cost: N/A.

Privacy Act Impact Assessment: N/A.

Nature and Extent of Confidentiality: The Commission is not requesting respondents to submit confidential information to the Commission. However, respondents may request materials or information submitted to the Commission or to the Administrator be withheld from public inspection under 47 CFR 0.459 of the Commission's rules. We note that USAC must preserve the confidentiality of all data obtained from respondents; must not use the data except for purposes of administering the universal service programs; and must not disclose data in company-specific form unless directed by the Commission to do so.

Needs and Uses: The Commission will submit this information collection to the Office of Management and Budget (OMB) for approval of a revision. The Commission is reporting a 533 hour increase in burden which is due to additional reporting requirements.

New requirements being proposed in this information collection for which OMB approval is sought are the Geocoded Information for Phase I Two- and Three-Year Milestone Reports; Broadband Initiatives Program/Broadband Technology Opportunities Program Annual Milestone Reports; Phase I Investment Annual Milestone Reports; Changes in Phase I Deployments; and Connect America Phase II State-Level Commitment Elections.

The Commission adopted two rulemakings that revised this collection. They are DA 13-1113 and FCC 13-73. Finally, the Commission has made some minor edits to the FCC Form 505 and its instructions.

Federal Communications Commission.
Marlene H. Dortch,
Secretary, Office of the Secretary, Office of Managing Director.

[FR Doc. 2013-25346 Filed 10-25-13; 8:45 am]

BILLING CODE 6712-01-P